DEPARTMENT OF THE TREASURY

Office of Foreign Assets Control

Designation of 5 individual(s) and 2 entity(-ies) Pursuant to Executive Order 13581, “Blocking Property of Transnational Criminal Organizations”

AGENCY: Office of Foreign Assets Control, Treasury.

ACTION: Notice.

SUMMARY: The Treasury Department's Office of Foreign Assets Control (“OFAC”) is publishing the names of 5 individual(s) and 2 entity(-ies) whose property and interests in property are blocked pursuant to Executive Order 13581 of July 24, 2011, “Blocking Property of Transnational Criminal Organizations.”

DATES: The designations by the Director of OFAC, pursuant to Executive Order 13581, of the 5 individual(s) and 2 entity(-ies) identified in this notice were effective on July 24, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On July 24, 2013, the Director of OFAC, in consultation with the Attorney General and the Secretary of State, designated, pursuant to one or more of the criteria set forth in subparagraphs (a)(ii)(A) through (a)(ii)(C) of Section 1 of the Order, 5 individual(s) and 2 entity(-ies) whose property and interests in property are blocked pursuant to the Order.

The listings for these individuals on OFAC's List of Specially Designated Nationals and Blocked Persons appear as follows:

Individual(s)

1. DI LAURO, Marco; DOB 16 Jun 1980; POB Naples, Italy (individual) [TCO].

2. RICCIO, Mario (a.k.a. RICCIO, Mariano); DOB 28 Jun 1991; POB Mugnano di Napoli, Italy (individual) [TCO].

3. MENNETTA, Antonio; DOB 03 Jan 1985; POB Naples, Italy (individual) [TCO].

4. ABETE, Mariano; DOB 03 Apr 1991; POB Naples, Italy (individual) [TCO].

5. GUARINO, Rosario; DOB 26 Jun 1983; POB Naples, Italy (individual) [TCO].

Entities

1. AVUAR OOO (a.k.a. AVUAR LLC), 12/120, Komn 51, Ulitsa Demokraticheskaya, Samara 443031, Russia; National ID No. 1036300456213 (Russia); alt. National ID No. 14565711 (Russia); alt. National ID No. 6315565439 (Russia) [TCO].

2. GUGA ARM SRO (a.k.a. GUGA ARM LTD), Dr. Davida Bechera 907/27, Karlovy Vary 36001, Czech Republic; National ID No. 27994783 (Czech Republic) [TCO].

Dated: July 24, 2013.
Adam J. Szubin,
Director, Office of Foreign Assets Control.

[FR Doc. 2013-19563 Filed 8-12-13; 8:45 am]

BILLING CODE 4811-AL-P